DEPARTMENT OF HEALTH AND HUMAN SERVICES

Centers for Disease Control and Prevention

Mine Safety and Health Research Advisory Committee (MSHRAC); Notice of Charter Renewal

AGENCY: Centers for Disease Control and Prevention (CDC), Department of Health and Human Services (HHS).

ACTION: Notice of charter renewal.

SUMMARY: This gives notice that under the Federal Advisory Committee Act of October 6, 1972, that the Mine Safety and Health Research Advisory Committee (MSHRAC), Centers for Disease Control and Prevention (CDC), Department of Health and Human Services, has been renewed for a 2-year period through November 30, 2024.

FOR FURTHER INFORMATION CONTACT: George W. Luxbacher, PE, Ph.D., Designated Federal Officer, Mine Safety and Health Research Advisory Committee (MSHRAC), CDC, HHS, 1600 Clifton Road NE, Mailstop V24-4, Atlanta, GA 30329-4027; Telephone: (404) 498-2808; Email: GLuxbacher@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-27482 Filed 12-19-22; 8:45 am]

BILLING CODE 4163-18-P